DEPARTMENT OF ENERGY

Federal Energy Regulatory Commission

[Project No. 12642-005]

Wilkesboro Hydroelectric Company, LLC; Wilkesboro Hydropower, LLC; Notice of Application for Transfer of License, and Soliciting Comments and Motions To Intervene

On April 15, 2013, Wilkesboro Hydroelectric Company, LLC (transferor) and Wilkesboro Hydropower, LLC (transferee) filed an application for the transfer of license for the W. Kerr Scott Hydropower Project, FERC No. 12642, located on the Yadkin River in Wilkes County, North Carolina.

Applicants seek Commission approval to transfer the license for the W. Kerr Scott Hydropower Project from the transferor to the transferee.

Applicants' Contact: For Transferor and Transferee: Mr. Kevin Edwards, Wilkesboro Hydropower, LLC, 1000 CN Smith Mill Road, Stoneville, NC 27048, telephone (336) 589-6138 and Mr. Donald H. Clarke, Esq., Duncan, Weinberg, Genzer, and Pembroke, P.C., 1615 M Street NW., Suite 800, Washington, DC 20036, telephone (202) 467-6370.

FERC Contact: Patricia W. Gillis (202) 502-8735, patricia.gillis@ferc.gov.

Deadline for filing comments and motions to intervene: 30 days from the issuance date of this notice by the Commission. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus five copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket number (P-12642) in the docket number field to access the document. For assistance, call toll-free 1-866-208-3372.

Kimberly D. Bose,
Secretary.

[FR Doc. 2013-15073 Filed 6-24-13; 8:45 am]

BILLING CODE 6717-01-P